DEPARTMENT OF HEALTH AND HUMAN SERVICES

National Institutes of Health

National Institute of Neurological Disorders and Stroke; Amended Notice of Meetings

Notice is hereby given of a change in the meetings of the National Institute of Neurological Disorders and Stroke Special Emphasis Panel, VCID Center Without Walls, June 11, 2024, 10:00 a.m. to 6:00 p.m.; BRAIN Initiative Connectivity across Scales Data Coordinating Center (BRAIN CONNECTS DCC) (U24 Clinical Trial Not Allowed), June 13, 2024, 10:00 a.m. to 12:30 p.m.; and BRAIN Initiative: Research Resource Grants for Technology Integration and Dissemination (U24 Clinical Trial Not Allowed), June 20, 2024, 10:00 a.m. to 6:00 p.m., National Institutes of Health, Neuroscience Center, 6001 Executive Boulevard, Rockville, MD, 20852 which were published in the Federal Register on May 15, 2024, FR Doc. 2024-10633, 89 FR 42479.

This notice is being amended to change the meeting formats of all three meetings from in-person to virtual. The dates and times of these meetings will remain the same. The meetings are closed to the public.

Dated: May 15, 2024.
Lauren A. Fleck,
Program Analyst, Office of Federal Advisory Committee Policy.

[FR Doc. 2024-11075 Filed 5-20-24; 8:45 am]

BILLING CODE 4140-01-P